DEPARTMENT OF COMMERCE

Foreign-Trade Zones Board

[Docket 28-2005]

Foreign-Trade Zone 176—Rockford, Illinois, Application for Subzone Status, Nissan Forklift Corporation North America Facilities (Fork-Lift Trucks), Marengo, Illinois

An application has been submitted to the Foreign-Trade Zones Board (the Board) by the Greater Rockford Airport Authority, grantee of FTZ 176, requesting special-purpose subzone status for the fork-lift truck manufacturing facilities of Nissan Forklift Corporation North America (NFC) (a subsidiary of Nissan Motor Company, Ltd., of Japan), located in Marengo, Illinois. The application was submitted pursuant to the provisions of the Foreign-Trade Zones Act, as amended (19 U.S.C. 81a-81u), and the regulations of the Board (15 CFR Part 400). It was formally filed on June 8, 2005.

The proposed subzone would include NFC's three facilities located in McHenry County, Illinois: Site 1 (manufacturing/23 acres/389,000 sq.ft.) located at 240 N. Prospect Street, Marengo, Illinois, some two miles east of Rockford, Illinois; Site 2 (warehouse-distribution/11 acres/43,000 sq. ft.) 19720 East Grant Highway, Marengo, about two miles to the southeast of Site 1; and Site 3 (leased warehouse/81,000 sq.ft.) 308 South Division Street, Harvard, Illinois, about 12 miles north of Site 1. The facilities (449 employees) are used to produce rider type, fork-lift trucks (Class I through Class V) powered by gasoline, propane, or electric motors (HTSUS 8427.10.4000, 8427.20.4000). The manufacturing process at the facilities involves painting, assembly, and testing of up to 15,000 units annually. Components purchased from abroad (about 48% of finished fork-lift truck value) used in manufacturing include: plastic tubes/pipes/hoses/fittings/gaskets/washers/seals/fasteners, plastic knobs, rubber tubes/pipes/hoses, rubber mats/o-rings/seals/handles/knobs/vibration dampeners, paper/paperboard labels and gaskets, articles of textile materials (items under Textile Categories 362/363/369/666/669 must be admitted under privileged foreign status 19 CFR § 146.41), fabricated items of asbestos, mirrors, aging material, casters, base metal mountings, flex tubing, clasps, hydraulic engines, pumps, air compressors, wooden pins/dowels, connectors and connector assemblies, fasteners, springs, washers, brake components, hinges, pneumatic cylinders, engines (gasoline, liquid propane) and related parts, hydraulic cylinders and related parts, pumps, air/oil/fuel/hydraulic filters, pneumatic and hydraulic valves, valves, bearings, hub/bearings, transmissions and related parts, transmission belts, crankshafts, gears, torque converters, flywheels, pulleys, clutches, couplings/u-joints, chains, sprockets, metal gaskets, electrical connectors, electric motors, generators, transformers, rotors, stators, power supplies, converters, spark plugs, ignition coils and distributors, starter motors, relays, switches, horns, capacitors, resistors, printed circuits/assemblies, fuses, controllers, circuit breakers and protectors, electrical connectors, conductors, lamps/lighting equipment, photovoltaic cells, ignition wiring harnesses, thermostats, measuring instruments (gauges), speedometers, tachometers, fiber optic cable, and seats (duty rate range: free - 9.0%).

FTZ procedures would exempt NFC from Customs duty payments on the foreign components used in export production. On its domestic sales and exports to NAFTA markets, the company would be able to choose the duty rate that applies to finished fork-lift trucks (duty free) for the foreign-sourced inputs noted above. Duties would be deferred or reduced on foreign production equipment admitted to the proposed subzone until which time it becomes operational. The application indicates that subzone status would help improve the facilities' international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building 4100W, 1099 14th Street, NW, Washington, DC 20005; or,

2. Submissions via the U.S. Postal Service: Foreign-Trade Zones Board, U.S. Department of Commerce, FCB 4100W, 1401 Constitution Ave., NW, Washington, DC 20230.

The closing period for their receipt is August 15, 2005. Rebuttal comments in response to material submitted during the foregoing period may be submitted during the subsequent 15-day period (to August 29, 2005).

A copy of the application will be available for public inspection at the Office of the Foreign-Trade Zones Board's Executive Secretary at address No.1 listed above and at the U.S. Department of Commerce Export Assistance Center, 515 N. Court Street, Rockford, IL 61103.

Dated: June 8, 2005.
Dennis Puccinelli,
Executive Secretary.

[FR Doc. 05-11816 Filed 6-14-05; 8:45 am]

BILLING CODE 3510-DS-S